DEPARTMENT OF EDUCATION

[Docket ID ED-2020-FSA-0139]

Privacy Act of 1974; Matching Program

AGENCY: Department of Education.

ACTION: Notice of a new Computer Matching Agreement.

SUMMARY: This document provides notice of a new Computer Matching Agreement (CMA) between the U.S. Department of Education (the Department) and the Department of Defense (DoD). The current 18-month CMA was recertified for an additional 12 months on February 27, 2020, and will automatically expire on February 26, 2021.

DATES: Submit your comments on the proposed CMA on or before March 1, 2021. The CMA will be effective March 1, 2021, unless comments have been received from interested members of the public requiring modification and republication of the notice.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this new CMA, address them to the person listed under FOR FURTHER INFORMATION CONTACT.

Privacy Note: ED's policy is to make all comments received from members of the public available for public viewing in their entirety on the Federal eRulemaking Portal at www.regulations.gov. Therefore, commenters should be careful to include in their comments only information that they wish to make publicly available.

FOR FURTHER INFORMATION CONTACT: Gerard Duffey, Management and Program Analyst, Wanamaker Building, U.S. Department of Education, Federal Student Aid, 100 Penn Square East, Suite 509.B10, Philadelphia, PA 19107. Telephone: (215) 656-3249.

SUPPLEMENTARY INFORMATION: In accordance with the Privacy Act; OMB Final Guidance Interpreting the Provisions of Public Law 100-503, the Computer Matching and Privacy Protection Act of 1988, published in the Federal Register on June 19, 1989 (54 FR 25818); and OMB Circular No. A-108, notice is hereby provided of the re-establishment of the matching program between ED and DoD.

The Secretary of Defense must provide the Secretary of Education with information to identify the children of military personnel who have died as a result of their military service in Iraq or Afghanistan after September 11, 2001, to determine if the child is eligible for increased amounts of title IV, HEA program assistance.

The CMA will continue for 18 months after the effective date of the CMA and may be extended for an additional 12 months thereafter, if the conditions specified in sections 420R and 473(b) of the Higher Education Act (HEA) (20 U.S.C. 1070h), 473(b) of the HEA (20 U.S.C. 1087mm(b)(3)), and in accordance with the Privacy Act of 1974 (5 U.S.C. 552a), have been met.

Participating Agencies: The Department of Education (the Department) and the Department of Defense (DoD).

Authority for Conducting the Matching Program: ED is authorized to participate in the matching program under sections 420R and 473(b) of the HEA (20 U.S.C. 1070h and 20 U.S.C. 1087mm(b)) and in accordance with the Privacy Act of 1974 (5 U.S.C. 552a).

Purpose(s): The purpose of this matching program between ED and DoD is to identify children whose parent or guardian was a member of the Armed Forces of the United States and died as a result of performing military service in Iraq or Afghanistan after September 11, 2001. These children (referred to as qualifying students) may be eligible for a greater amount of title IV, HEA program assistance. A qualifying student must have been age 24 or younger at the time of the parent's or guardian's death, or, if older than 24, enrolled part-time or full-time in an institution of higher education at the time of the parent's or guardian's death.

Verification by this matching program provides an efficient and comprehensive method of identifying students whose parent or guardian was a member of the Armed Forces of the United States and died as a result of performing military service in Iraq or Afghanistan after September 11, 2001.

Categories of Individuals: The individuals whose records are included in this matching program are dependents of service personnel who died as a result of performing their Armed Forces military service in Iraq or Afghanistan after September 11, 2001, whose records are located in the DoD Defense Manpower Data Center (DMDC) Database (76 FR 72391) (November 23, 2011), the Defense Enrollment Eligibility Reporting System (DEERS) (81 FR 49210) (July 27, 2016), and all students who complete a Free Application for Federal Student Aid.

Categories of Records: DoD uses the following data elements in this matching program: Dependent's Name, Date of Birth and Social Security Number (SSN)—extracted from DEERS; and Parent or Guardian's Date of Death—extracted from the DMDC Data Base. ED uses the SSN, date of birth, and the first two letters of an applicant's last name to match applicant records.

System(s) of Records: ED system of records: Federal Student Aid Application File (18-11-01) last published in the Federal Register on October 29, 2019 (84 FR 57856). Routine Uses 1 and 13 apply to this CMA. (See https://www.federalregister.gov/documents/2019/10/29/2019-23581/privacy-act-of-1974-system-of-records.) (Note: The ED Central Processing System [CPS] is the ED information system that processes data from the Federal Student Aid Application File.)

DoD system of records: DMDC 01, Defense Manpower Data Center Data Base (76 FR 72391) (November 23, 2011), and DMDC 02 DoD Defense Enrollment Eligibility Reporting Systems (DEERS) (81 FR 49210) (July 27, 2016).

Accessible Format: Individuals with disabilities can obtain this document in an accessible format (such as, braille, large print, or audiotape) by contacting the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Brown,
Chief Operating Officer Federal Student Aid.

[FR Doc. 2021-02002 Filed 1-27-21; 4:15 pm]

BILLING CODE 4000-01-P